DEPARTMENT OF ENERGY

Federal Energy Regulatory Commission

[Project No. 619-164]

Pacific Gas and Electric Company and City of Santa Clara, California; Notice of Application Tendered for Filing With the Commission and Establishing Procedural Schedule for Licensing and Deadline for Submission of Final Amendments

Take notice that the following hydroelectric application has been filed with the Commission and is available for public inspection.

a. Type of Application: New Major License

b. Project No.: 619-164

c. Date Filed: December 12, 2016

d. Applicant: Pacific Gas and Electric Company (PG&E) and City of Santa Clara, California

e. Name of Project: Bucks Creek Hydropower Project

f. Location: The Bucks Creek Project is located on Bucks, Grizzly, and Milk Ranch Creeks in Plumas County, California. Portions of the project are located within the Plumas National Forest.

g. Filed Pursuant to: Federal Power Act, 16 U.S.C. 791 (a)-825(r)

h. Applicant Contact: Alan Soneda, PG&E, Mail Code N13C, P. 0. Box 770000, San Francisco, California 94177-0001; (415) 973-4054

i. FERC Contact: Alan Mitchnick at (202) 502-6074 or alan.mitchnick@ferc.gov.

j. This application is not ready for environmental analysis at this time.

k. The Project Description:

Bucks Lake Dam and Reservoir (Bucks Creek Development)

The Bucks Lake dam consists of a rock-fill with concrete face dam. It has a structural height of 123 feet and a length of 1,320 feet. Bucks Creek dam impounds Bucks Lake, which extends 5 miles from the dam. Total storage in the 1,827-acre reservoir is approximately 105,605 acre-feet at the normal maximum water surface elevation of approximately 5,157 feet. From Bucks Lake, the project's water flow is released immediately downstream into Lower Bucks Lake.

Three Lakes Dam and Reservoir, and Milk Ranch Conduit (Bucks Creek Development)

The Three Lakes dam consists of a rock-fill dam with a structural height of 30 feet and a length of 584 feet. Three Lakes dam impounds the flow of Milk Ranch Creek, forming Upper Lake, Middle Lake, and Lower Lake, collectively known as Three Lakes reservoir. These water bodies are hydraulically linked and are approximately 0.75 mile from the dam. Total storage in the 40-acre reservoir is approximately 513 acre-feet at the normal maximum water surface elevation of approximately 6,074 feet.

Milk Ranch conduit conveys the project's water flow from Three Lakes reservoir and feeder diversions to Lower Bucks Lake. The maximum capacity of the approximately 8-mile-long conduit is about 70 cubic foot per second (cfs). It collects additional flow from several diversions located on unnamed tributaries.

Lower Bucks Lake Dam and Reservoir (Bucks Creek Development)

The Lower Bucks Lake dam consists of a concrete arch dam with a structural height of 99 feet and a length of 500 feet. Lower Bucks Creek dam impounds Lower Bucks Lake, which extends approximately 1.1 miles from the dam. Total storage in the 136-acre reservoir is approximately 5,843 acre-feet at the normal maximum water surface elevation of approximately 5,022 feet. Water is conveyed from Lower Bucks Lake to the Grizzly powerhouse by the Grizzly powerhouse tunnel.

Grizzly Powerhouse Tunnel (Grizzly Development)

The 12,320-foot-long Grizzly powerhouse tunnel (including a 4,900-foot-long buried penstock) conveys the water flow from Lower Bucks Lake to Grizzly powerhouse. The maximum flow capacity is 400 cfs.

Grizzly Powerhouse (Grizzly Development)

The Grizzly powerhouse is a 65-foot-long by 55-foot-wide, steel frame and concrete building constructed from reinforced concrete, with a maximum capacity of 20 megawatts (MW) and an average annual generation production of 48.9 gigawatt-hours (GWh). Grizzly powerhouse discharges the project's water flow directly into the Grizzly forebay.

A 3.2-mile-long, 115-kilovolt (kV) transmission line transmits power from Grizzly powerhouse to PG&E's 115-kV Caribou-Sycamore transmission line, part of the interconnected system.

Grizzly Forebay Dam and Reservoir (Bucks Creek Development)

The Grizzly forebay dam consists of a concrete arch dam with a structural height of 98 feet and a length of 520 feet. Grizzly forebay dam impounds the Grizzly forebay, forming the Grizzly forebay reservoir that extends approximately 0.8 mile. Total storage in the 38-acre reservoir is approximately 1,112 acre-feet at the normal maximum water surface elevation of approximately 4,316 feet.

Grizzly Forebay Tunnel (Bucks Creek Development)

From Grizzly forebay, the project's water flow is conveyed through the horseshoe-shaped Grizzly forebay tunnel. The tunnel is 9,575-foot-long with two 4,786-foot-long penstocks leading to Bucks Creek powerhouse. The maximum flow capacity is 400 cfs.

Bucks Creek Powerhouse (Bucks Creek Development)

The project's water flow is conveyed through the Grizzly forebay tunnel to Bucks Creek powerhouse. The Bucks Creek powerhouse is a 47-foot-long by 132-foot-wide, steel frame and concrete building constructed from reinforced concrete. The powerhouse has a total maximum capacity of 65 MW with an average annual generation of 234.8 GWh. The powerhouse connects directly to the non-project switchyard adjacent to the powerhouse part of the interconnected transmission system.

Bucks Creek powerhouse discharges the project's water flow in the North Fork Feather River, one mile upstream of Rock Creek powerhouse, part of PG&E's Rock Creek-Cresta Hydroelectric Project (FERC Project No. 1962).

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | February 2017.
Filing of recommendations, preliminary terms and conditions, and fishway prescriptions | April 2017.
Commission issues Draft Environmental Impact Statement (EIS) | October 2017.
Comments on Draft EIS | December 2017.
Modified Terms and Conditions | February 2018.
Commission Issues Final EIS | May 2018.

o. Final amendments to the application must be filed with the Commission no later than 30 days from the issuance date of the Notice of Ready for Environmental Analysis.

Dated: December 16, 2016.
Kimberly D. Bose,
Secretary.

[FR Doc. 2016-30851 Filed 12-21-16; 8:45 am]

BILLING CODE 6717-01-P